DEPARTMENT OF TRANSPORTATION

Federal Aviation Administration

14 CFR Part 71

[Docket No. FAA-2003-15454; Airspace Docket No. 03-ACE-52]

Modification of Class E Airspace; Wichita Mid-Continent Airport, KS

Correction

In the correction to rule document 03-17766 appearing on page 47637 in the issue of Monday, August 11, 2003, paragraph designation 3. should read as set forth below:

§71.1 [Corrected]

3. On page 41692, in the second column, in § 71.1, under the heading “ACE KS E5 Wichita Mid-Continent Airport, KS”, in the sixth line “(Lat. 37°37′33″ N.,” should read “(Lat. 37°37′23″ N.,”.

[FR Doc. C3-17766 Filed 8-14-03; 8:45 am]

BILLING CODE 1505-01-D